DEPARTMENT OF THE INTERIOR

Bureau of Land Management

[WY-921-1430-FQ; WYW 83356-05]

Public Land Order No. 7638; Partial Revocation of Two Secretarial Orders; Wyoming

AGENCY: Bureau of Land Management, Interior.

ACTION: Public land order.

SUMMARY: This order partially revokes two Secretarial Orders insofar as they affect 240 acres of public lands withdrawn for stock driveway purposes. The lands are no longer needed for the purpose for which they were withdrawn. This action will open the lands to surface entry unless closed by overlapping withdrawals or temporary segregations of record.

EFFECTIVE DATE: July 15, 2005.

FOR FURTHER INFORMATION CONTACT: Janet Booth, BLM Wyoming State Office, PO Box 1828, Cheyenne, Wyoming 82003, 307-775-6124.

SUPPLEMENTARY INFORMATION: This action will allow for completion of a pending land exchange and clear the records of an unneeded withdrawal.

Order

By virtue of the authority vested in the Secretary of the Interior by section 204 of the Federal Land Policy and Management Act of 1976, 43 U.S.C. 1714 (2000), it is ordered as follows:

1. The Secretarial Orders dated February 2, 1924, and April 30, 1938, which withdrew public lands for Stock Driveway No. 128 (Wyoming No. 13), are hereby revoked insofar as they affect the following described lands:

Sixth Principal Meridian

T. 43 N., R. 86 W.,

Sec. 3, E½SE¼;

Sec. 10, NE¼NE¼;

Sec. 21, W½NE¼ and NW¼SE¼.

The areas described aggregate approximately 240 acres in Washakie County.

2. At 9 a.m. on July 18, 2005, the lands described in paragraph 1 shall be opened to the operation of the public land laws generally, subject to valid existing rights, the provisions of existing withdrawals, other segregations of record and the requirements of applicable law. All valid applications received at or prior to 9 a.m. on July 18, 2005, shall be considered as simultaneously filed at that time. Those received thereafter shall be considered in the order of filing.

Dated: May 12, 2005.
Rebecca W. Watson,
Assistant Secretary—Land and Minerals Management.

[FR Doc. 05-11855 Filed 6-15-05; 8:45 am]

BILLING CODE 4310-22-P